DEPARTMENT OF HOUSING AND URBAN DEVELOPMENT

[Docket No. FR-5375-N-12]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COAST GUARD: Commandant, United States Coast Guard, Attn: Jennifer Stomber, 2100 Second St., SW., Stop 7901, Washington, DC 20593-0001; (202) 475-5609; GSA: Mr. Gordon Creed, Acting Deputy Assistant Commissioner, General Services Administration, Office of Property Disposal, 18th & F Streets, NW., Washington, DC 20405; (202) 501-0084; INTERIOR: Mr. Michael Wright, Acquisition & Property Management, Department of the Interior, 1849 C Street, NW., Washington, DC 20240: (202) 208-5399; NAVY: Mr. Albert Johnson, Director of Real Estate, Department of the Navy, Naval Facilities Engineering Command, Washington Navy Yard, 1330 Patterson Ave., SW., Suite 1000, Washington, DC 20374; (202) 685-9305; (These are not toll-free numbers).

Dated: March 25, 2010.
Mark R. Johnston,
Deputy Assistant Secretary for Special Needs.

Title V, Federal Surplus Property Program

Federal Register Report for 04/02/2010

SUITABLE/AVAILABLE PROPERTIES

BUILDING

ALASKA

Dalton-Cache Border Station

Mile 42 Haines Highway

Haines AK 99827

Landholding Agency: GSA

Property Number: 54201010019

Status: Excess

GSA Number: 9-G-AK-0833

Directions: Bldgs. 1 and 2

Comments: 1,940 sq. ft., most recent use-residential, and off-site removal only

TENNESSEE

2 Bldgs.

National Military Park

Shiloh TN 38376

Landholding Agency: Interior

Property Number: 61201010015

Status: Unutilized

Directions: Tracts 01-173 and 01-180

Comments: 928 sq. ft and 2,000 sq. ft, most recent use-residential, and off-site removal

UNSUITABLE PROPERTIES

BUILDING

MARYLAND

7 Bldgs.

Naval Recreation Center

Solmons MD

Landholding Agency: Navy

Property Number: 77201010032

Status: Underutilized

Directions: 301, 303, 305, 307, 309, 411, 411A

Reasons: Secured Area

34 Bldgs.

Naval Recreation Center

Solomons MD

Landholding Agency: Navy

Property Number: 77201010033

Status: Underutilized

Directions: 217 thru 237, C2, C4, C5, C6, C8, C9, C10, C12, C13, C15, C17, C18, C19

Reasons: Secured Area

Bldgs. 370, 371, 381

Naval Recreation Center

Solomons MD

Landholding Agency: Navy

Property Number: 77201010034

Status: Underutilized

Reasons: Secured Area

5 Facilities

Naval Recreation Center

Solomons MD

Landholding Agency: Navy

Property Number: 77201010035

Status: Underutilized

Directions: 399, 400, 401, 402, 456

Reasons: Secured Area

Bldgs. 255, 423, 455/Site 1

Naval Recreation Center

Solomons MD

Landholding Agency: Navy

Property Number: 77201010036

Status: Underutilized

Reasons: Secured Area

5 Facilities

Naval Recreation Center

Solomons MD

Landholding Agency: Navy

Property Number: 77201010037

Status: Underutilized

Directions: 408, 404, 426, 452, 487

Reasons: Secured Area

12 Bldgs.

Naval Recreation Center

Solomons MD

Landholding Agency: Navy

Property Number: 77201010038

Status: Underutilized

Directions: 9, 14, 20, 418, 458, 459, 460, 35, 41, 261, 262, 82

Reasons: Secured Area

13 Bldgs.

Naval Recreation Center

Solomons MD

Landholding Agency: Navy

Property Number: 77201010039

Status: Underutilized

Directions: 99A, 99B, 126, 126A, 457, 135, 380, 147, 412, 453, 465, 466, 468

Reasons: Secured Area

14 Bldgs.

Naval Recreation Center

Solomons MD

Landholding Agency: Navy

Property Number: 77201010040

Status: Underutilized

Directions: 472, 486, 494, B2, B2A, 10, 463, 442, 11A, 26, 86, 132, 27, 85

Reasons: Secured Area

7 Bldgs.

Naval Recreation Center

Solomons MD

Landholding Agency: Navy

Property Number: 77201010041

Status: Underutilized

Directions: 103, 105, 105B, 10B, 103B, 116, 130

Reasons: Secured Area

14 Bldgs.

Naval Recreation Center

Solomons MD

Landholding Agency: Navy

Property Number: 77201010042

Status: Underutilized

Directions: 238, 240, 254, 313, 397, 403, 433, 443, 444, 471, 503, 445, 446, 454

Reasons: Secured Area

Bldgs. 462, 432, 464

Naval Recreation Center

Solomons MD

Landholding Agency: Navy

Property Number: 77201010043

Status: Underutilized

Reasons: Secured Area

5 Facilities

Naval Recreation Center

Solomons MD

Landholding Agency: Navy

Property Number: 77201010044

Status: Underutilized

Directions: 470, 469, 467, 405, 330

Reasons: Secured Area

4 Facilities/Site 2

Naval Recreation Center

Solomons MD

Landholding Agency: Navy

Property Number: 77201010045

Status: Underutilized

Directions: 392, 193, 386, 387

Reasons: Secured Area

Facility 451/Site 3

Naval Recreation Center

Solomons MD

Landholding Agency: Navy

Property Number: 77201010046

Status: Underutilized

Reasons: Secured Area

8 Facilities

Naval Recreation Center

Solomons MD

Landholding Agency: Navy

Property Number: 77201010047

Status: Underutilized

Directions: 369, 407, 473, 474, 311, 731P2, 361, 420

Reasons:Secured Area

3 Facilities/Site 4

Naval Recreation Center

Solomons MD

Landholding Agency: Navy

Property Number: 77201010048

Status: Underutilized

Directions: 243, 396, S379A

Reasons: Secured Area

5 Bldgs.

Naval Recreation Center

Solomons MD

Landholding Agency: Navy

Property Number: 77201010049

Status: Underutilized

Directions: B1, 376, 376A 385, 312

Reasons: Secured Area

9 Bldgs.

Naval Recreation Center

Solomons MD

Landholding Agency: Navy

Property Number: 77201010050

Status: Underutilized

Directions: 389, 390, 391, 373, 372, 377, 378, 388, 328

Reasons: Secured Area

Bldgs. & approx. 41.68 acres

Naval Air Station

Patuxent River MD

Landholding Agency: Navy

Property Number: 77201010051

Status: Underutilized

Directions: 416, 419, 433-438, 462, 1597, 1598, 1598B, 2494

Reasons: Secured Area

4 Bldg.

Coast Guard

Annapolis MD 21403

Landholding Agency: Coast Guard

Property Number: 88201010006

Status: Excess

Directions: Qtrs. A-OJ1 and Qtrs. B-OJ2 Qtrs. A-OV4 and Qtrs. B-OV5

Reasons: Secured Area

MINNESOTA

2 Bldgs.

Voyagers national Park

Crain Lake MN 55725

Landholding Agency: Interior

Property Number: 61201010013

Status: Unutilized

Directions: Tract 37101 and Tract 70-143

Reasons: Not accessible by road

Extensive deterioration

MISSISSIPPI

Tract 02-167

Natl Military Park

Vickburg MS 39180

Landholding Agency: Interior

Property Number: 61201010014

Status: Unutilized

Reasons: Extensive deterioration

TEXAS

2 Bldgs.

Amistad National Rec Area

Del Rio TX 78840

Landholding Agency: Interior

Property Number: 61201010016

Status: Unutilized

Directions: Bldg. Nos. 4 and 5

Reasons: Extensive deterioration

Bldgs. H-A thru H-J

Naval Air Station

Corpus Christi TX 78419

Landholding Agency: Navy

Property Number: 77201010052

Status: Unutilized

Reasons: Extensive deterioration

LAND

COLORADO

0.12 Acres

Highway 348

Olathe CO 81425

Landholding Agency: Interior

Property Number: 61201010012

Status: Unutilized

Reasons: Other—Legal Constraints

[FR Doc. 2010-7272 Filed 4-1-10; 8:45 am]

BILLING CODE 4210-67-P